DEPARTMENT OF ENERGY

Federal Energy Regulatory Commission

Combined Notice of Filings #2

Take notice that the Commission received the following electric rate filings:

Docket Numbers: ER13-281-001

Applicants: Star Energy Partners LLC

Description: Star Energy Partners LLC submits Notice of Non-Material Change in Status.

Filed Date: 1/30/13

Accession Number: 20130130-5166

Comments Due: 5 p.m. ET 2/20/13

Docket Numbers: ER13-435-001

Applicants: New York Independent System Operator, Inc.

Description: New York Independent System Operator, Inc. submits NYISO Compliance Filing re: definition of the term “blind trust” in the OATT to be effective 1/1/2013.

Filed Date: 1/30/13

Accession Number: 20130130-5223

Comments Due: 5 p.m. ET 2/20/13

Docket Numbers: ER13-437-001

Applicants: New York Independent System Operator, Inc.

Description: New York Independent System Operator, Inc. submits NYISO Compliance Filing re: the term, “blind trust” in the ISO Agreement to be effective 1/1/2013.

Filed Date: 1/30/13

Accession Number: 20130130-5225

Comments Due: 5 p.m. ET 2/20/13

Docket Numbers: ER13-772-000

Applicants: NorthWestern Corporation

Description: SA 576—WKN Montana II LGIA—1st Revised, Amended, 2nd Corrected Redline to be effective N/A.

Filed Date: 1/30/13

Accession Number: 20130130-5124

Comments Due: 5 p.m. ET 2/20/13

Docket Numbers: ER13-826-000

Applicants: RPA Energy, Inc.

Description: RPA Energy, Inc. to be effective 3/1/2013.

Filed Date: 1/30/13

Accession Number: 20130130-5139

Comments Due: 5 p.m. ET 2/20/13

Docket Numbers: ER13-827-000

Applicants: Carolina Power & Light Company

Description: Service Agreement No. 328 under Carolina Power and Light OATT to be effective 1/1/2013.

Filed Date: 1/30/13

Accession Number: 20130130-5140

Comments Due: 5 p.m. ET 2/20/13

Docket Numbers: ER13-828-000

Applicants: EverPower Wind Holdings, Inc.

Description: Notice of Cancellation to be effective 3/1/2013.

Filed Date: 1/30/13

Accession Number: 20130130-5143

Comments Due: 5 p.m. ET 2/20/13

Docket Numbers: ER13-829-000

Applicants: Southwest Power Pool, Inc.

Description: 1628R4 Western Farmers Electric Cooperative NITSA NOA to be effective 1/1/2013.

Filed Date: 1/30/13

Accession Number: 20130130-5152

Comments Due: 5 p.m. ET 2/20/13

Docket Numbers: ER13-830-000

Applicants: J.P. Morgan Ventures Energy Corporation

Description: Cost-Based Rate Compliance Filing to be effective 4/1/2013.

Filed Date: 1/30/13

Accession Number: 20130130-5158

Comments Due: 5 p.m. ET 2/20/13

Docket Numbers: ER13-831-000

Applicants: Carolina Power & Light Company

Description: Service Agreement No. 326 under Carolina Power and Light OATT to be effective 1/1/2013 under ER13-831 Filing Type: 10

Filed Date: 1/30/13

Accession Number: 20130130-5165

Comments Due: 5 p.m. ET 2/20/13

Take notice that the Commission received the following electric securities filings:

Docket Numbers: ES11-40-002

Applicants: Entergy Services, Inc., Entergy Arkansas, Inc., Entergy Gulf States Louisiana, L.L.C., Entergy Louisiana, LLC, Entergy Mississippi, Inc., Entergy New Orleans, Inc., Entergy Texas, Inc.

Description: Response to Commission Request for Additional Information of Entergy Services, Inc.

Filed Date: 1/22/13

Accession Number: 20130122-5382

Comments Due: 5 p.m. ET 2/5/13

Take notice that the Commission received the following land acquisition reports:

Docket Numbers: LA12-4-000

Applicants: AEE2, L.L.C., AES Alamitos, LLC, AES Armenia Mountain Wind, LLC, AES Beaver Valley, L.L.C., AES Creative Resources, L.P., AES Eastern Energy, L.P., AES Energy Storage, LLC, AES ES Westover, LLC, AES Huntington Beach, L.L.C., AES Laurel Mountain, LLC, AES Redondo Beach, L.L.C., Condon Wind Power, LLC, Lake Benton Power Partners, LLC, Mountain View Power Partners, LLC Mountain View Power Partners IV, LLC, Storm Lake Power Partners II, LLC, Indianapolis Power & Light Company, The Dayton Power and Light Company, DPL Energy, Inc.

Description: Report of Generation Site Acquisitions for Q4 2012 of The AES Corporation.

Filed Date: 1/30/13

Accession Number: 20130130-5193

Comments Due: 5 p.m. ET 2/20/13

Docket Numbers: LA12-4-000

Applicants: ArcLight Energy Marketing, LLC, Panther Creek Power Operating, LLC, Scrubgrass Generating Company, L.P.

Description: Quarterly Land Acquisition Report of ArcLight Energy Marketing, LLC, et al.

Filed Date: 1/30/13

Accession Number: 20130130-5205

Comments Due: 5 p.m. ET 2/20/13

Docket Numbers: LA12-4-000

Applicants: EC&R O&M, LLC, Munnsville Wind Farm, LLC, Pioneer Trail Wind Farm, LLC, Settlers Trail Wind Farm, Stony Creek Wind Farm, LLC and Wildcat Wind Farm I, LLC

Description: Quarterly Land Acquisition Report of E.ON CRNA Sellers.

Filed Date: 1/30/13

Accession Number: 20130130-5228

Comments Due: 5 p.m. ET 2/20/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2013.
Nathaniel J. Davis, Sr.,
Deputy Secretary.

[FR Doc. 2013-02657 Filed 2-5-13; 8:45 am]

BILLING CODE 6717-01-P